DEPARTMENT OF TRANSPORTATION

Federal Aviation Administration

14 CFR Parts 1, 71, 95, and 97

[Docket No. FAA-2003-14698; Amendment Nos. 1-50; 71-32; 95-339; 97-1334]

RIN 2120-AH77

Designation of Class A, B, C, D, and E Airspace Areas; Air Traffic Service Routes; and Reporting Points

AGENCY: Federal Aviation Administration (FAA), DOT.

ACTION: Final rule; request for comments.

SUMMARY: This action adopts certain amendments proposed in Notice No. 02-20, Area Navigation (RNAV) and Miscellaneous Amendments. Specifically, this action revises or adopts several definitions in FAA regulations, including Air Traffic Service routes, in part to be in concert with International Civil Aviation Organization (ICAO) definitions; reorganizes the structure of FAA regulations concerning the Designation of Class A, B, C, D, and E Airspace Areas; Airways; Routes; and Reporting Points, without changing the intent of the rule; and incorporates by reference two FAA Orders on Terminal Instrument Procedures (TERPS) and Flight Procedures and Airspace, into the Code of Federal Regulations. This action is intended to facilitate the development of RNAV routes that are not restricted to ground-based navigation references.

DATES: This final rule is effective on May 15, 2003. The incorporation by reference of certain publications listed in the rule is approved by the Director of the Federal Register as of May 15, 2003. Comments on this action must be submitted on or before May 8, 2003.

ADDRESSES: Address your comments to the Docket Management System, U.S. Department of Transportation, Room Plaza 401, 400 Seventh Street, SW., Washington, DC 20590-0001. You must identify the docket number FAA-2003-14698 at the beginning of your comments, and you should submit two copies of your comments.

You may also submit comments through the Internet to http://dms.dot.gov. You may review the public docket containing comments to these proposed regulations in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Paul Gallant, Airspace and Rules Division, ATA-400, Office of Air Traffic Airspace Management, Federal Aviation Administration, 800 Independence Ave., SW., Washington, DC 20591; telephone: (202) 267-8783.

SUPPLEMENTARY INFORMATION:

Comments Invited

We invite interested persons to participate in this rulemaking by submitting such written data, views, or arguments, as they may desire. We also invite comments relating to environmental, energy, federalism, or international trade impacts that might result form this amendment. Please include the regulatory docket or amendment number and send two copies to the address above. We will file all comments received, as well as a report summarizing each substantive public contact with FAA personnel on this rulemaking, in the public docket. The docket is available for public inspection before and after the comment closing date.

Anyone is able to search the electronic form of all comments received into any of our dockets by the name of the individual submitting the comment (or signing the comment, if submitted on behalf of an association, business, labor union, etc.). You may review DOT's complete Privacy Act statement in the Federal Register published on April 11, 2000 (volume 65, number 70; pages 19477-78), or you may visit http://dms.dot.gov.

The FAA will consider all comments received on or before the closing date for comments. We will consider late comments to the extent practicable. We may amend this final rule in light of the comments received.

Commenters who want the FAA to acknowledge receipt of their comments submitted in response to this final rule must include a preaddressed, stamped postcard with those comments on which the following statement is made: “Comments to Docket No. FAA-2003-14698.” The postcard will be date-stamped by the FAA and mailed to the commenter.

Availability of Final Rule

You can get an electronic copy using the Internet by:

(1) Searching the Department of Transportation's electronic Docket Management System (DMS) Web page (http://dms.dot.gov/search);

(2) Visiting the Office of Rulemaking's Web page at http://www.faa.gov/avr/arm/index.cfm; or

(3) Accessing the Government Printing Office's Web page at http://www.access.gpo.gov/su_docs/aces/aces140.html.

You can also get a copy by submitting a request to the Federal Aviation Administration, Office of Rulemaking, ARM-1, 800 Independence Avenue, SW., Washington, DC 20591, or by calling (202) 267-9680. Make sure to identify the docket number, notice number, or amendment number of this rulemaking.

Small Business Regulatory Enforcement Fairness Act

The Small Business Regulatory Enforcement Fairness Act (SBREFA) of 1996 requires FAA to comply with small entity requests for information or advice about compliance with statutes and regulations within its jurisdiction. Therefore, any small entity that has a question regarding this document may contact their local FAA official, or the person listed under FOR FURTHER INFORMATION CONTACT. You can find out more about SBREFA on the Internet at our site, http://www.gov/avr/arm/sbrefa.htm. For more information on SBREFA, e-mail us 9-AWA-SBREFA@faa.gov.

Background

On December 17, 2002, the FAA published Notice No. 02-20, Area Navigation (RNAV) and Miscellaneous Amendments, (Docket No. FAA-2002-14002; 67 FR 77326). In that notice, the FAA proposed to amend its regulations (14 CFR parts, 1, 71, 91, 95, 97, 121, 125, 129, and 135) to reflect technological advances that support RNAV operations; make certain terms consistent with those of the ICAO; remove the middle marker as a required component of instrument landing systems; and clarify airspace terminology. The changes in Notice No. 02-20 were proposed to facilitate the transition from reliance on ground-based navigation to new reference sources, enable advancements in technology, and increase efficiency of the National Airspace System. These amendments do not preclude the continued use of ground-based navigation systems. The comment period for Notice No. 02-20 closed on January 31, 2003. In response to the notice, the FAA received 21 comments.

A number of commenters requested that the FAA extend the comment period for up to 90 days to permit more in depth analyses of the proposal. Other comments received on this effort concerned the proposed amendments to communications and navigation equipment requirements, and instrument approach procedure terminology. These particular comments were substantive and reflected a significant interest in many areas of the proposed amendments. Also, several comments were received regarding the proposed amendments to air traffic service (ATS) routes terminology and criteria in part 1 and part 71. The FAA believes that many of these comments indicate that the commenters misunderstood the scope and intent of the proposed changes to part 1 and part 71.

For the reasons discussed below, the FAA is taking two separate actions: (1) Issuing a final rule, request for comments, on those matters dealing with the revision or adoption of several definitions in 14 CFR part 1, the reorganization of 14 CFR part 71, and the incorporation of FAA Order 8260.3 and FAA Order 8260.19 into the Code of Federal Regulations by reference; and (2) reopening the comment period for the proposed RNAV operations and equipment requirements. The reopening of the comment period for the proposed RNAV operations and equipment requirements is published separately in today's Federal Register.

Rationale for Separate Rule Action

This separate rulemaking effort will enable the FAA to proceed with the design and development phase of a high altitude RNAV route structure while providing an additional opportunity for public input. Operators of suitably-equipped aircraft will be able to realize some of the benefits of this High Altitude Redesign (HAR) project potentially as early as the summer of 2003. The HAR seeks to maximize the efficiency of the National Airspace System through the use of new technology and airspace concepts in the high altitude structure. The HAR will enable improved system efficiency by establishing high altitude RNAV routes for use by operators of suitably equipped aircraft. For example, establishing multiple routes in high density corridors where air traffic flows are currently served by a single jet route will lead to a reduction in “miles-in-trail” restrictions and alleviate “choke points” that lead to air traffic delays. In consideration of the increased traffic volume expected during the upcoming summer air travel season, the potential for increased air traffic delays, and the time required to promulgate airspace rulemaking actions to establish RNAV routes, the FAA believes that it is in the public interest to adopt these amendments in a separate final rule.

Many of the aircraft in the U.S. commercial fleet operating in the high altitude structure are already capable of utilizing the RNAV routes being implemented under the HAR. Experience from the implementation of RNAV procedures and routes in the terminal environment indicates significant time and fuel savings for participating carriers and demonstrates the potential of the HAR project.

The new RNAV routes will supplement, but not replace, the existing National Airspace System (NAS) route structure (i.e., Federal airways and jet routes). The adoption of these amendments will facilitate the expanded use of RNAV systems for operators of suitably equipped aircraft. However, the adoption will not impose any new obligation on users to change from current ground-based navigation systems.

The FAA has determined that these amendments can be adopted separately without adverse impact on the continuing rulemaking process for the remaining proposed amendments in Notice No. 02-20. We have also determined that failure to proceed with a final rule now would further delay the savings that would be realized by a significant number of system users. The FAA recognizes that some members of the public may not have submitted comments on the relevant proposals because they requested an extension of the comment period. Therefore, the FAA is opening a 30-day comment period with this final rule.

In response to these particular proposals, the FAA received four comments regarding the amendments to parts 1 and 71 being adopted in this final rule. No comments were received regarding the amendments to §§ 95.1 and 97.20. These comments are further discussed below.

Analysis of Comments

Section 1.1 General Definitions

Comments were received regarding the definitions “Air Traffic Service (ATS) route” and “Area navigation (RNAV).” The Airline Dispatchers Federation wrote expressing general approval of the NPRM, but was concerned that the definition of an Air Traffic Service route does not “concur” with other regulatory requirements.

The FAA does not agree with this comment. This ICAO definition of Air Traffic Service route is being adopted simply as a general term to include all Federal airways, jet routes, and RNAV routes in the NAS. The definition states that an ATS route would be defined by route specifications that may include a route designator, the path to or from fixes, distance between fixes, reporting requirements, and the lowest safe altitude for the route. This is general information that is consistent with the information currently contained in various directives regarding the development and establishment of Federal airways and jet routes in the NAS.

Alaska Airlines questioned how ATS routes would be referred to in day-to-day communications and operations. The Aircraft Owners and Pilots Association (AOPA) expressed similar concerns, and stated that the FAA should use the term “ATS route” only in internal orders and procedures design guidance, citing the potential for confusion.

The FAA disagrees with these comments. As stated above, the term “ATS route” is a general term used to describe all types of routes designated in the NAS. The FAA does not foresee changing the identification of existing routes. The current prefixes “J” and “V” will continue to be used to describe jet routes and VOR Federal airways, respectively, in flight plans, ATC communications, and regulations. In addition, colored Federal airways will also continue to be described by the appropriate colors and prefixes (e.g., Red Federal airways: R-1; Green Federal airways: G-1; etc.). Also, the FAA will add a new prefix, “Q,” to identify domestic RNAV routes that will be established as one outcome of this rule. The new routes will be established by rule in the same manner as jet routes and victor airways. ICAO has allotted the “Q” prefix, and the number series 001 through 499, to the United States for this purpose (e.g., Q-105). ATC communications and flight plans will refer to these routes by “Q-prefix and number” as is currently done for “jet routes” and “victor airways.” Further, the FAA plans to amend appropriate publications, such as the Aeronautical Information Manual (AIM), to reflect the changes adopted in this rule.

As part of their comments on the proposal, Continental Airlines requested that the proposed definition of area navigation (RNAV) be dropped, stating that more industry input is required.

The FAA does not agree with this request. The current definition in § 1.1 limits the use of RNAV to station-referenced navigation signals (i.e., ground-based navigation aids) or within the limits of self-contained system capability. The new definition describes RNAV as a method of navigation that permits aircraft operations on any desired flight path. This broadened definition is intended to allow the expanded use of RNAV systems and allows the flexibility to take advantage of future changes in navigation technology. The FAA acknowledges that not all RNAV-capable aircraft are suitably equipped to operate on all RNAV routes. The FAA will determine the means to qualify aircraft for various RNAV operations and the method for promulgating the requirements to operate on RNAV routes. These requirements will be promulgated similarly to the way part 71 routes and part 97 procedures are currently promulgated. In addition, the modified definition of area navigation (RNAV) route stipulates that the routes are ATS routes that can be used by suitably equipped aircraft.

Section 71.11 Air Traffic Service (ATS) routes

In response to Notice No. 02-20, Continental Airlines and Alaska Airlines submitted comments on § 71.11. Continental Airlines requested that the proposed subparagraphs (a), (b), and (c) be deleted and § 71.11 be rewritten as follows: “Unless otherwise specified, ATS routes include the protected airspace dimensions as determined acceptable by the Administrator.”

The FAA does not agree with Continental Airlines' comment. The revised § 71.11, as suggested by Continental Airlines, omits certain important information regarding route design that should be reflected in part 71. Subparagraphs (a), (b), and (c), as proposed in Notice No. 02-20, are based on information extracted from the existing § 71.75 “Extent of Federal airways” that is useful to the public. The new § 71.11 expands that information to include all ATS routes in addition to Federal airways. The new § 71.11(a) also differs from the existing § 71.75(a) by adding the word “fix” to define a route. This change provides for the use of RNAV waypoints to describe route segments. The new § 71.11(b) replaces the information contained in the existing § 71.75(b) regarding Federal airway route boundaries and protected airspace. Much of the information in § 71.75 is of a technical nature that the FAA believes should not be included in part 71. The new § 71.11(b) stipulates that the source of information regarding protected airspace dimensions for ATS routes is FAA Order 8260.3, United States Standard for Terminal Instrument Procedures (TERPS). Additionally, Order 8260.3 is incorporated by reference by the amendment of § 97.20 in this final rule. Criteria applicable to ATS routes is found in Order 8260.3, chapter 15, “Area Navigation (RNAV),” and chapter 17, “Enroute Criteria.” Future developments in navigation technology will be reflected in revised editions of Order 8260.3.

Further, § 71.11(c) states that an ATS route does not include the airspace of a prohibited area. A prohibited area is a type of special use airspace, designated under part 73, wherein no person may operate an aircraft without permission of the using agency. Waivers are not normally granted for routine en route aircraft operations to transit a prohibited area, therefore the FAA believes that it is important that this paragraph remain a part of this section.

In their comment, Alaska Airlines believes that the new § 71.11 does not address assigning a required navigation performance (RNP) value to ATS routes. Alaska Airlines stated that the advent of RNP may make current route dimensions and protected airspace criteria obsolete and that this should be examined.

The FAA intentionally did not address RNP in this rulemaking action due to the ongoing development of RNP standards and procedures in the United States. Referencing FAA Order 8260.3 as the source of route criteria, and removing more specific criteria from this section, will preclude the need for further amendments to part 71 once RNP values and procedures are finalized. We believe that this rule will not adversely affect the future implementation of RNP in the NAS.

Section 71.13 Classification of Air Traffic Service (ATS) Routes.

In their comment, Continental Airlines requested that § 71.13(b) be rewritten to delete the specific references to VOR Federal airways and colored Federal airways. They recommended that the section should refer to (1) Federal airways, and (2) RNAV routes.

The FAA does not agree with this recommended change. In the current § 71.73, Classification of Federal airways, states that Federal airways consist of VOR Federal airways and colored Federal airways, and lists the specific types of colored Federal airways (i.e., Green, Amber, Red, and Blue). The new § 71.13(b) simply lists the types of airways and routes that are designated in subpart E of this part. Currently, 43 designated colored Federal airways, and more than 600 VOR Federal airways, remain in the NAS. The FAA believes that removing the references to VOR and colored airways as requested by the commenter would cause confusion about the status of these routes. Currently, there is no plan to eliminate these types of Federal airways and they will remain a part of the NAS. Additionally, these airways are not impacted by this rulemaking action.

AOPA further commented that the rule should not adversely impact the majority of general aviation operations that are not equipped with IFR GPS equipment.

We agree with this comment and thus emphasize that this rule is intended to facilitate the expanded use of RNAV and GPS navigation, and not intended to curtail navigation based on the Federal airway or jet route structures.

AOPA also stated their expectations that the following changes should occur concurrently with the publication of this final rule: A reduction of the minimum en route altitude on Victor airways when using GPS; increased access to Class B airspace by establishing RNAV routes through the area; increased access to special use airspace by publishing routes independent of NAVAID citing; and enable RNAV access to geographic areas where failing navigation infrastructure prevents IFR access to certain airports.

These specific comments are outside the scope of Notice No. 02-20.The FAA points out that separate efforts are already underway to address these concerns and that this rule will facilitate progress in those areas.

No comments were received regarding §§ 95.1 and 97.20.

The Rule

This rule adopts the following amendments proposed in Notice No. 02-20:

Part 1—Definitions and Abbreviations

In § 1.1 General definitions, this action adds the terms Air Traffic Service (ATS) route and Area navigation (RNAV) route, and amends the terms Area navigation (RNAV) and Route segment. These changes adopt the ICAO term “Air Traffic Service (ATS) route” as a general term that includes Federal airways, jet routes, and RNAV routes, and to facilitate the use of RNAV that is not dependent on ground-based navigation systems.

Part 71—Designation of Class A, B, C, D, and E Airspace Areas; Air Traffic Service Routes; and Reporting Points

The FAA is adopting, in full, the part 71 amendments, with minor edits to the title of this part, as proposed in Notice No. 02-20. These changes incorporate the term “Air Traffic Service (ATS) route;” facilitate the development of ATS routes that are not dependent upon ground-based navigation systems; remove extraneous information from part 71; and restructure the sections in part 71 to more clearly organize the information and improve readability.

Part 95—IFR Altitudes

The FAA is adopting, in full, the part 95 amendments. These changes increase the flexibility of the rule to accommodate the use of other-than-ground-based navigation systems. However, these amendments do not preclude the continued use of ground-based navigation systems.

Part 97—Standard Instrument Approach Procedures

In Notice No. 02-20, the FAA proposed various amendments to the heading of part 97, and to §§ 97.1, 97.3, 97.5, 97.10, and 97.20. This rule, however, adopts only the amendment to § 97.20 General. Section 97.20 is amended to incorporate FAA Order 8260.3, “U.S. Standard for Terminal Instrument Procedures (TERPS),” and FAA Order 8260.19, “Flight Procedures and Airspace,” into the Code of Federal Regulations.

Paperwork Reduction Act

The Paperwork Reduction Act of 1995 (44 U.S.C. 3507(d) requires that the FAA consider the impact of paperwork and other information collection burdens imposed on the public. We have determined that there are no new information collection requirements associated with this final rule.

International Compatibility

In keeping with United States obligations under the Convention on International Civil Aviation, it is the FAA's policy to comply with International Civil Aviation Organization (ICAO) Standards and Recommended Practices to the maximum extent practicable. The FAA has reviewed the corresponding ICAO Standards and Recommended Practices and has identified no differences with these regulations.

Executive Order 12866 and DOT Regulatory Policies and Procedures

Executive Order 12866, Regulatory Planning and Review, directs the FAA to assess both the costs and the benefits of a regulatory change. We are not allowed to propose or adopt a regulation unless we make a reasoned determination that the benefits of the intended regulation justify its costs. Our assessment of this rulemaking indicates that its cost impact is minimal because the rule merely revises or adds definitions, incorporates by reference two orders concerning TERPS and Flight Procedures and Airspace, and enables the use of advanced RNAV navigation routes that the FAA has been developing. These routes are typically more direct, and therefore, shorter than the current Federal Airways and jet routes and in following these advanced RNAV routes aircraft may require less fuel and time to reach their destinations. Because the costs and benefits of this action do not make it a “significant regulatory action” as defined in the Order, we have not prepared a “regulatory impact analysis.” Similarly, we have not prepared a full “regulatory evaluation,” which is the written cost/benefit analysis ordinarily required for all rulemaking under the DOT Regulatory and Policies and Procedures. We do not need to do a full evaluation where the cost impact of a rule is minimal. We will prepare a full regulatory evaluation for the separate final rule concerning RNAV operations and equipment requirements.

Regulatory Flexibility Determination

The Regulatory Flexibility Act of 1980 (RFA) directs the FAA to fit regulatory requirements to the scale of the business, organizations, and governmental jurisdictions subject to the regulation. We are required to determine whether a proposed or final action will have a “significant economic impact on a substantial number of small entities” as they are defined in the Act. If we find that the action will have a significant impact, we must do a “regulatory flexibility analysis.”

This final rule merely revises or adds definitions, incorporates by reference two orders concerning TERPS and Flight Procedures and Airspace, and enables the use of advanced RNAV navigation routes that the FAA has been developing. Therefore, we certify that this action will not have a significant economic impact on a substantial number of small entities.

International Trade Impact Analysis

The Trade Agreement Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this rulemaking and has determined that it will impose the same minimal costs on domestic and international entities and thus have a neutral trade impact.

Unfunded Mandate Assessment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.”

This final rule does not contain such a mandate. The requirements of title II of the Act, therefore, do not apply.

Executive Order 13132, Federalism

The FAA has analyzed this final rule under the principles and criteria of Executive Order 13132, Federalism. We determined that this action will not have a substantial direct effect on the States, or the relationship between the national government and the States, or on the distribution of power and responsibilities among the various levels of government. Therefore, we determined that this final rule does not have federalism implications.

Environmental Analysis

FAA Order 1050.1D defines FAA actions that may be categorically excluded from preparation of a National Environmental Policy Act (NEPA) environmental impact statement. In accordance with FAA Order 1050.1D, appendix 4, paragraph 4(j), this rulemaking action qualifies for a categorical exclusion.

Energy Impact

The energy impact of the notice has been assessed in accordance with the Energy Policy and Conservation Act (EPCA) Public Law 94-163, as amended (42 U.S.C. 6362) and FAA Order 1053.1. We have determined that the final rule is not a major regulatory action under the provisions of the EPCA.

List of Subjects

14 CFR Part 1

Air transportation.

14 CFR Part 71

Airspace, Incorporation by reference, Navigation (air).

14 CFR Part 95

Air traffic control, Airspace, Alaska, Navigation (air), Puerto Rico.

14 CFR Part 97

Air traffic control, Airports, Incorporation by reference, Navigation (air), Weather.

The Amendment

In consideration of the foregoing, the Federal Aviation Administration amends chapter I of title 14, Code of Federal Regulations as follows:

PART 1—DEFINITIONS AND ABBREVIATIONS

1. The authority citation for part 1 continues to read as follows:

Authority: 49 U.S.C. 106(g), 40113, 44701.

2. Amend § 1.1 as follows:

a. Remove the definitions of Area navigation high route, Area navigation low route, and RNAV way point.

b. Add definitions for Air Traffic Service (ATS) route and Area navigation (RNAV) route in alphabetical order to read as set forth below.

c. Revise the definitions of Area navigation (RNAV), and Route segment to read as set forth below.

§ 1.1 General definitions.

* * * * *

Air Traffic Service (ATS) route is a specified route designated for channeling the flow of traffic as necessary for the provision of air traffic services. The term “ATS route” refers to a variety of airways, including jet routes, area navigation (RNAV) routes, and arrival and departure routes. An ATS route is defined by route specifications, which may include:

(1) An ATS route designator;

(2) The path to or from significant points;

(3) Distance between significant points;

(4) Reporting requirements; and

(5) The lowest safe altitude determined by the appropriate authority.

* * * * *

Area navigation (RNAV) is a method of navigation that permits aircraft operations on any desired flight path.

Area navigation (RNAV) route is an ATS route based on RNAV that can be used by suitably equipped aircraft.

* * * * *

Route segment is a portion of a route bounded on each end by a fix or navigation aid (NAVAID).

* * * * *

PART 71—DESIGNATION OF CLASS A, B, C, D, AND E AIRSPACE AREAS; AIR TRAFFIC SERVICE ROUTES; AND REPORTING POINTS

3. The authority citation for part 71 continues to read as follows:

Authority: 49 U.S.C. 106(g), 40103, 40113, 40120; E.O. 10854, 24 FR 9565, 3 CFR, 1959-1963 Comp., p. 389.

4. Revise the heading of part 71 to read as set forth above.

Subpart A—Class A Airspace

5. Transfer the heading “Subpart A— General; Class A Airspace” from where it appears preceding § 71.1 to preceding § 71.31 and revise it to read as set forth above.

6. Add § 71.11 to read as follows:

§ 71.11 Air Traffic Service (ATS) routes.

Unless otherwise specified, the following apply:

(a) An Air Traffic Service (ATS) route is based on a centerline that extends from one navigation aid, fix, or intersection, to another navigation aid, fix, or intersection (or through several navigation aids, fixes, or intersections) specified for that route.

(b) ATS routes include the primary protected airspace dimensions defined in FAA Order 8260.3, “United States Standard For Terminal Instrument Procedures (TERPS).” Order 8260.3 is incorporated by reference in § 97.20 of this chapter.

(c) An ATS route does not include the airspace of a prohibited area.

7. Add § 71.13 to read as follows:

§ 71.13 Classification of Air Traffic Service (ATS) routes.

Unless otherwise specified, ATS routes are classified as follows:

(a) In subpart A of this part:

(1) Jet routes.

(2) Area navigation (RNAV) routes.

(b) In subpart E of this part:

(1) VOR Federal airways.

(2) Colored Federal airways.

(i) Green Federal airways.

(ii) Amber Federal airways.

(iii) Red Federal airways.

(iv) Blue Federal airways.

(3) Area navigation (RNAV) routes.

8. Add § 71.15 to read as follows:

§ 71.15 Designation of jet routes and VOR Federal airways.

Unless otherwise specified, the place names appearing in the descriptions of airspace areas designated as jet routes in subpart A of FAA Order 7400.9, and as VOR Federal airways in subpart E of FAA Order 7400.9, are the names of VOR or VORTAC navigation aids. FAA Order 7400.9 is incorporated by reference in § 71.1.

§ 71.73 [Removed]

9. Remove § 71.73.

§ 71.75 [Removed]

10. Remove § 71.75.

§ 71.77 [Removed]

11. Remove § 71.77.

§ 71.79 [Removed]

12. Remove § 71.79.

PART 95—IFR ALTITUDES

13. The authority citation for part 95 continues to read as follows:

Authority: 49 U.S.C. 106(g), 40103, 40113, and 14 CFR 11.49(b)(2).

14. Revise § 95.1 to read as follows:

§ 95.1 Applicability.

(a) This part prescribes altitudes governing the operation of aircraft under IFR on ATS routes, or other direct routes for which an MEA is designated in this part. In addition, it designates mountainous areas and changeover points.

(b) The MAA is the highest altitude on an ATS route, or other direct route for which an MEA is designated, at which adequate reception of VOR signals is assured.

(c) The MCA applies to the operation of an aircraft proceeding to a higher minimum en route altitude when crossing specified fixes.

(d) The MEA is the minimum en route IFR altitude on an ATS route, ATS route segment, or other direct route. The MEA applies to the entire width of the ATS route, ATS route segment, or other direct route between fixes defining that route. Unless otherwise specified, an MEA prescribed for an off airway route or route segment applies to the airspace 4 nautical miles on each side of a direct course between the navigation fixes defining that route or route segment.

(e) The MOCA assures obstruction clearance on an ATS route, ATS route segment, or other direct route, and adequate reception of VOR navigation signals within 22 nautical miles of a VOR station used to define the route.

(f) The MRA applies to the operation of an aircraft over an intersection defined by ground-based navigation aids. The MRA is the lowest altitude at which the intersection can be determined using the ground-based navigation aids.

(g) The changeover point (COP) applies to operation of an aircraft along a Federal airway, jet route, or other direct route; for which an MEA is designated in this part. It is the point for transfer of the airborne navigation reference from the ground-based navigation aid behind the aircraft to the next appropriate ground-based navigation aid to ensure continuous reception of signals.

PART 97—STANDARD INSTRUMENT PROCEDURES

15. The authority citation for part 97 continues to read as follows:

Authority: 49 U.S.C. 106(g), 40103, 40113, 40120, 44701; and 14 CFR 11.49(b)(2).

16. Revise § 97.20 to read as follows:

§ 97.20 General.

(a) This subpart prescribes standard instrument procedures based on the criteria contained in FAA Order 8260.3B, “U.S. Standard for Terminal Instrument Procedures (TERPS) (July 7, 1976) and FAA Order 8260.19C, “Flight Procedures and Airspace” (September 16, 1993). These standard instrument procedures and FAA Orders were approved for incorporation by reference by the Director of the Federal Register pursuant to 5 U.S.C. 552(a) and 1 CFR part 51. They may be examined at the following locations:

(1) FAA Orders 8260.3 and 8260.19 may be examined at the Federal Aviation Administration, Flight Standards Service, Flight Technologies and Procedures Division (AFS-420), 6500 S. MacArthur Blvd., Oklahoma City, OK, and at the Office of the Federal Register, 800 North Capitol Street, NW., suite 700, Washington, DC. These Orders are available for purchase from the U.S. Government Printing Office, 710 N. Capitol Street, NW., Washington, DC 20401.

(2) Standard instrument procedures may be examined at the Federal Aviation Administration, National Flight Data Center (ATA-110), 800 Independence Avenue, SW., Washington, DC, and at the Office of the Federal Register, 800 North Capitol Street, NW., suite 700, Washington, DC.

(b) Standard instrument procedures and associated supporting data are documented on specific forms under FAA Order 8260.19C (September 16, 1993) and are promulgated by the FAA through the National Flight Data Center (NFDC) as the source for aeronautical charts and avionics databases. These procedures are then portrayed on aeronautical charts and included in avionics databases prepared by the National Aeronautical Charting Office (AVN-500) and other publishers of aeronautical data for use by pilots using the NFDC source data. The terminal aeronautical charts published by the U.S. Government were approved for incorporation by reference by the Director of the Federal Register pursuant to 5 U.S.C. 552(a) and 1 CFR part 51. They may be examined at the Federal Aviation Administration, National Flight Data Center (ATA-110), 800 Independence Avenue, SW., Washington, DC, and at the Office of the Federal Register, 800 North Capitol Street, NW., suite 700, Washington, DC. These charts are available for purchase from the FAA National Aeronautical Charting Office, Distribution Division AVN-530, 6303 Ivy Lane, Suite 400, Greenbelt, MD 20770.

Issued in Washington, DC on March 28, 2003.
Marion C. Blakey,
Administrator.

[FR Doc. 03-8286 Filed 4-7-03; 8:45 am]

BILLING CODE 4910-13-P